DEPARTMENT OF DEFENSE

Department of the Army, Corps of Engineers

Intent To Prepare an Environmental Impact Statement for Chicago Area Waterway System Dredged Material Management Plan Study, Chicago, Illinois

AGENCY: U.S. Army Corps of Engineers, DoD.

ACTION: Notice of intent.

SUMMARY: The U.S. Army Corps of Engineers (Corps) is preparing an Environmental Impact Statement (EIS) in accordance with the National Environmental Policy Act (NEPA) for the Chicago Area Waterway System Dredged Material Management Plan Study. The study is sponsored by the Chicago Department of Transportation (CDOT) on behalf of the City of Chicago. The purpose of the EIS is to assess the likely social, economic, and environmental effects of a range of potential alternative plans to ensure that maintenance dredging activities are performed in an environmentally acceptable manner, use sound engineering techniques, are economically warranted, and provide sufficient confined disposal capacity, as needed, for at least the next 20 years. Based on stakeholder and public concerns voiced throughout the process of preparing an Environmental Assessment, the Corps has determined that an EIS is warranted for the study.

DATES: Previous Scoping letters and outreach occurred between February 2, 2018 and March 5, 2018. Public Workshops were held on April 28, 2018 and April 30, 2018 to share preliminary analyses and further solicit public input on potential study alternatives.

ADDRESSES: Mr. Mike Padilla, Project Manager, U.S. Army Corps of Engineers Chicago District, 231 South LaSalle Street, Suite 1500, Chicago, IL 60608.

FOR FURTHER INFORMATION CONTACT: For further information and/or questions about this Dredged Material Management Plan and EIS, please contact Mr. Mike Padilla, Project Manager, by telephone: 312-846-5427, by email: michael.c.padilla@usace.army.mil, or by mail: ATTN: Mike Padilla, Project Manager, U.S. Army Corps of Engineers Chicago District, 231 South LaSalle Street, Suite 1500, Chicago, IL 60608.

SUPPLEMENTARY INFORMATION: The Chicago District is preparing an Environmental Impact Statement (EIS) to determine the potential impacts of the Dredged Material Management Plan (DMMP) for the Chicago Area Waterway System (CAWS). The purpose of the DMMP is to find a new location for a Confined Disposal Facility (CDF) for contaminated sediment in the CAWS, which includes the Calumet River and Harbor and the Cal-Sag Channel. The current CDF is approaching capacity and will be full by 2022.

Dredged material management planning for all federal harbor projects is conducted by the Corps to ensure that maintenance dredging activities are performed in an environmentally acceptable manner, use sound engineering techniques, are economically warranted, and that sufficient confined disposal facilities are available for at least the next 20 years. These plans address dredging needs, disposal capabilities, capacities of disposal areas, environmental compliance requirements, potential for beneficial use of dredged material, and indicators of continued economic justification. The federal navigation channels in the Chicago Area Waterway System are a vital part of the local and regional economy and the Corps regularly performs maintenance dredging to provide sufficient depths for safe and efficient navigation within Calumet Harbor & River.

The Calumet Harbor and River navigation project is the third largest by tonnage among Great Lakes harbors, with shipments and receipts totaling 14 million tons annually. Commercial navigation activities at the Calumet Harbor & River and Cal-Sag Channel are locally and regionally significant, supporting more than 3,700 jobs and $600 million in annual sales in the Chicagoland area. If a plan for managing the dredged material is not identified, sediment would accumulate in the federal channel, reducing the safe depth at which vessels can operate, forcing ships to carry less cargo. Shipping costs would increase, impacting businesses at the harbor. The project requires annual dredging of approximately 50,000 cubic yards (CY) to maintain deep draft navigation. Dredged material is currently placed in the Chicago Area Confined Disposal Facility (CDF). With over 1.3 million CY placed since inception in 1984, the CDF will reach capacity in 2022. The plan will include disposal management of more highly contaminated dredged sediment and beneficial use planning for material that is deemed suitable for various identified uses. The study is identifying and analyzing potential locations along the Calumet harbor and River to construct a new sediment management facility, as well as the feasibility of expanding the existing CDF to provide the required capacity for safely handling material that is too contaminated for beneficial use.

The Corps has hosted a number of stakeholder engagements and public workshops up to this point and is continuing to coordinate with stakeholders and resource agencies to identify and assess any potentially significant adverse impacts to human health and the environment associated with the study. Availability of the Draft Dredged Material Management Plan and EIS is anticipated in the spring of 2019 for a 45-day period of public review. A public hearing(s) will be conducted following public release.

Additional information about the Chicago Area Waterway System and the Dredged Material Management Plan is available on the study website at: https://www.lrc.usace.army.mil/Missions/Civil-Works-Projects/Calumet-Harbor-and-River/.

Felicia Kirksey,
Assistant Chief, Planning Programs and Project Management Division, U.S. Army Corps of Engineers, Chicago District.

[FR Doc. 2018-28344 Filed 12-27-18; 8:45 am]

BILLING CODE 3720-58-P